DEPARTMENT OF TRANSPORTATION

Research and Special Programs Administration

[Docket No. RSPA-98-4957]

Renewal of Existing Information Collection

AGENCY: Office of Pipeline Safety, Research and Special Programs Administration, DOT.

ACTION: Request for public comments and OMB approval.

SUMMARY: As required by the Paperwork Reduction Act of 1995, the Research and Special Programs Administration (RSPA), Office of Pipeline Safety (OPS) published a notice in the Federal Register on February 13, 2004 (69 FR 7283) requesting public comments on renewal of an information collection, Reporting of Safety-Related Conditions on Gas, Hazardous Liquid and Carbon Dioxide Pipelines and Liquefied Natural Gas Facilities. No comments were received. This notice requests approval of the renewal by the Office of Management and Budget (OMB) and additional comments from the public.

DATES: Comments on this notice must be received no later than June 3, 2004, to be assured of consideration.

ADDRESSES: Comments should identify the docket number of this notice, RSPA-98-4957, and be mailed directly to Office of Management and Budget, Office of Information and Regulatory Affairs (OIRA), 726 Jackson Place, NW., Washington, DC 20593, ATTN: Desk Officer for the Department of Transportation.

FOR FURTHER INFORMATION CONTACT: Marvin Fell, Office of Pipeline Safety, Research and Special Programs Administration, U.S. Department of Transportation, 400 Seventh Street, SW., Washington, DC 20590, (202) 366-6205, or by fax to (202) 366-4566, or via e-mail at marvin.fell@rspa.dot.gov.

SUPPLEMENTARY INFORMATION:

Abstract: 49 U.S.C. 60102 requires each operator of a pipeline facility (except master meter systems) to submit to the U.S. Department of Transportation a written report on any safety-related condition that causes or has caused a significant change or restriction in the operation of a pipeline facility or a condition that is a hazard to life, property, or the environment.

Title: Reporting of Safety-Related Conditions on Gas, Hazardous Liquid, and Carbon Dioxide Pipelines and Liquefied Natural Gas Facilities.

OMB Number: 2137-0578.

Type of Request: Renewal of existing information collection.

Estimate of Burden: The average burden hour per response is 6 hours.

Respondents: Gas, hazardous liquid, and carbon dioxide pipeline operators and liquefied natural gas facility operators.

Estimated responses per year: 47.

Estimated Total Annual Burden on Respondents: 282 hours.

Comments are invited on (a) the need for the proposed collection of information for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who respond, including the use of the appropriate automated, electronic, mechanical, or other technological collection techniques.

Issued in Washington, DC, on April 27, 2004.
Richard D. Huriaux,
Regulations Manager, Office of Pipeline Safety.

[FR Doc. 04-10118 Filed 5-3-04; 8:45 am]

BILLING CODE 4910-60-M